DEPARTMENT OF THE INTERIOR

Fish and Wildlife Service

[FW-HQ-R-2015-N024; FXRS12630900000-156-FF09R81000]

Proposed Information Collection; Hunting and Fishing Application Forms and Activity Reports for National Wildlife Refuges

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on April 30, 2015. We may not conduct or sponsor and a person is not required to respond to a collection of information unless it displays a currently valid OMB control number.

DATES: To ensure that we are able to consider your comments on this IC, we must receive them by April 3, 2015.

ADDRESSES: Send your comments on the IC to the Information Collection Clearance Officer, U.S. Fish and Wildlife Service, MS BPHC, 5275 Leesburg Pike, Falls Church, VA 22041-3803 (mail); or hope_grey@fws.gov (email). Please include “1018-0140” in the subject line of your comments.

FOR FURTHER INFORMATION CONTACT: To request additional information about this IC, contact Hope Grey at hope_grey@fws.gov (email) or 703-358-2482 (telephone).

SUPPLEMENTARY INFORMATION:

I. Abstract

The National Wildlife Refuge System Administration Act of 1966 (16 U.S.C. 668dd-668ee), as amended (Administration Act), and the Refuge Recreation Act of 1962 (16 U.S.C. 460k-460k-4) (Recreation Act) govern the administration and uses of national wildlife refuges and wetland management districts. The Administration Act consolidated all the different refuge areas into a single Refuge System. It also authorizes us to permit public uses, including hunting and fishing, on lands of the Refuge System when we find that the activity is compatible and appropriate with the purpose for which the refuge was established. The Recreation Act allows the use of refuges for public recreation when the use is not inconsistent or does not interfere with the primary purpose(s) of the refuge.

We administer 373 hunting programs and 271 fishing programs on 408 refuges and wetland management districts. We only collect user information at about 20 percent of these refuges. Information that we plan to collect will help us:

• Administer and monitor hunting and fishing programs on refuges.

• Distribute hunting and fishing permits in a fair and equitable manner to eligible participants.

We use nine application and report forms associated with hunting and fishing on refuges. We may not allow all opportunities on all refuges; therefore, we developed different forms to simplify the process and avoid confusion for applicants. The currently approved forms are available online at http://www.fws.gov/forms/. Not all refuges will use each form and some refuges may collect the identical information in a nonform format.

We use the following application forms when we assign areas, dates, and/or types of hunts via a drawing because of limited resources, high demand, or when a permit is needed to hunt. We issue application forms for specific periods, usually seasonally or annually.

• FWS Form 3-2354 (Quota Deer Hunt Application).

• FWS Form 3-2355 (Waterfowl Lottery Application).

• FWS Form 3-2356 (Big/Upland Game Hunt Application).

• FWS Form 3-2357 (Migratory Bird Hunt Application).

• FWS Form 3-2358 (Fishing/Shrimping/Crabbing Application).

We collect information on:

• Applicant (name, address, phone number) so that we can notify applicants of their selection.

• User preferences (dates, areas, method) so that we can distribute users equitably.

• Whether or not the applicant is applying for a special opportunity for disabled or youth hunters.

• Age of youth hunter(s) so that we can establish eligibility.

We ask users to report on their success after their experience so that we can evaluate hunting/fishing quality and resource impacts. We use the following activity reports, which we distribute during appropriate seasons, as determined by State or Federal regulations.

• FWS Form 3-2359 (Big Game Harvest Report).

• FWS Form 3-2360 (Fishing Report).

• FWS Form 3-2361 (Migratory Bird Hunt Report).

• FWS Form 3-2362 (Upland/Small Game/Furbearer Report).

We collect information on:

• Names of users so we can differentiate between responses.

• City and State of residence so that we can better understand if users are local or traveling.

• Dates, time, and number in party so we can identify use trends and allocate staff and resources.

• Details of success by species so that we can evaluate quality of experience and resource impacts.

II. Data

OMB Control Number: 1018-0140.

Title: Hunting and Fishing Application Forms and Activity Reports for National Wildlife Refuges; 50 CFR 25, 26, 27, 30, 31, and 32.

Service Form Number(s): FWS Forms 3-2354, 3-2355, 3-2356, 3-2357, 3-2358, 3-2359, 3-2360, 3-2361, 3-2362.

Type of Request: Extension of a currently approved collection.

Description of Respondents: Individuals and households.

Respondent's Obligation: Required to obtain or retain a benefit.

Frequency of Collection: On occasion (for applications, usually once per year at the beginning of the hunting season; for activity reports, once at the conclusion of the hunting/fishing experience).

Activity | Number of respondents | Number of responses | Completion time per response | Total annual burden hours
FWS Form 3-2354 | 180,000 | 180,000 | 30 minutes | 90,000
FWS Form 3-2355 | 93,000 | 93,000 | 30 minutes | 46,500
FWS Form 3-2356 | 2,600 | 2,600 | 30 minutes | 1,300
FWS Form 3-2357 | 5,200 | 5,200 | 30 minutes | 2,600
FWS Form 3-2358 | 2,600 | 2,600 | 30 minutes | 1,300
FWS Form 3-2359 | 88,000 | 88,000 | 15 minutes | 22,000
FWS Form 3-2360 | 412,000 | 412,000 | 15 minutes | 103,000
FWS Form 3-2361 | 31,000 | 31,000 | 15 minutes | 7,750
FWS Form 3-2362 | 26,000 | 26,000 | 15 minutes | 6,500
Totals | 840,400 | 840,400 |  | 280,950

Estimated Annual Nonhour Burden Cost: We estimate the annual nonhour cost burden to be $60,000 for hunting application fees at some refuges.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: January 28, 2015.
Tina A. Campbell,
Chief, Division of Policy and Directives Management, U.S. Fish and Wildlife Service.

[FR Doc. 2015-01897 Filed 1-30-15; 8:45 am]

BILLING CODE 4310-55-P